DEPARTMENT OF ENERGY

Federal Energy Regulatory Commission

[Docket No. EG04-98-000, et al.]

Tyr Energy, LLC, et al.; Electric Rate and Corporate Filings

August 31, 2004.

The following filings have been made with the Commission. The filings are listed in ascending order within each docket classification.

1. Tyr Energy, LLC

[Docket No. EG04-98-000]

Take notice that on August 25, 2004, Tyr Energy, LLC (Tyr) filed with the Commission an application for determination of exempt wholesale generator status pursuant to section 32 of the Public Utility Holding Company Act of 1935 (PUHCA) and Part 365 of the Commission's regulations.

Tyr states that it is a Delaware limited liability company that will be engaged either directly or indirectly and exclusively in the business of operating electric generation facilities located in Massachusetts.

Comment Date: 5 p.m. eastern standard time on September 15, 2004.

2. ENMAX Energy Marketing, Inc.

[Docket No. ER01-2508-001]

Take notice that on August 26, 2004, ENMAX Energy Marketing, Inc. (ENMAX) submitted for filing its triennial market power update analysis. ENMAX also submitted for filing amendments to its market-based rate tariff implementing the Market Behavior Rules adopted by the Commission, Investigation of Terms and Conditions of Public Utility Market-Based Rate Authorization, 105 FERC ¶ 61,218 (2003).

Comment Date: 5 p.m. eastern standard time on September 16, 2004.

3. Reliant Energy Aurora, LP

[Docket No. ER04-1066-002]

Take notice that on August 25, 2004, Reliant Energy Wholesale Generation, LLC (REWG) submitted a substitute rate sheet to its rate schedule filed July 30, 2004. REWG states that the substitute rate sheet intended to supersede Original Sheet No. 1 of Rate Schedule No. 2 filed on August 24, 2004, contained a minor clerical error relating to the issuance date and this filing is to correct the substitute rate sheet.

Comment Date: 5 p.m. eastern standard time on September 14, 2004.

4. NewCorp Resources Electric Cooperative, Inc.

[Docket No. ER04-1149-000]

Take notice that on August 25, 2004, NewCorp Resources Electric Cooperative, Inc. (NewCorp) tended for filing its Network Integration Transmission Service Agreement with Cap Rock Energy Corporation (NITSA) and its Network Operating Agreement with Cap Rock Energy Corporation (NOA). NewCorp states that this filing is being made pursuant to Part 25 of the Commission's regulations implementing section 205 of the Federal Power Act.

NewCorp request waiver of the notice and effective date requirements of Part 35 to allow the NITSA and NOA to take effect as of April 1, 2004.

Comment Date: 5 p.m. eastern standard time on September 14, 2004.

5. Westar Energy, Inc.

[Docket No. ER04-1150-000]

Take notice that on August 26, 2004, Westar Energy, Inc. (Westar) submitted for filing revisions to the FERC Electric Tariff, Volume No. 7 (Tariff) for approval. Westar states that the tariff is proposed to be effective on October 1, 2004 and the changes in the tariff provide for customers taking service under the tariff to obtain an allocation of hydroelectric power and energy from an additional resource, the Western Area Power Administration (WAPA). Westar notes that the changes also delete Westar's need to submit a revised Exhibit II when delivery points are added or changed. Westar further states that it has also corrected typographical errors.

Westar states that a copy of this filing was served upon the Kansas Corporation Commission, Kaw Valley Electric Cooperative, Nemaha-Marshall Electric Cooperative Association, Inc. and Doniphan Electric Cooperative.

Comment Date: 5 p.m. eastern standard time on September 16, 2004.

6. Xcel Energy Operating Companies; Northern States Power Company d/b/a Xcel Energy

[Docket No. ER04-1151-000]

Take notice that on August 26, 2004, Xcel Energy Services Inc. (XES) on behalf of Northern States Power Company d/b/a Xcel Energy (NSP) filed a Connection and Construction Agreement for the Wood Lake Substation 69 kV Connection between NSP and the Minnesota Valley Cooperative Light and Power Association (MVCLP) dated August 16, 2004. XES states that it proposes that the Interconnection Agreement be designated as Service Agreement 219-NSP to the Xcel Energy Operating Companies FERC Electric Tariff, Original Volume No. 3. XES requests that the Interconnection Agreement be accepted for filing effective August 9, 2004.

Comment Date: 5 p.m. eastern standard time on September 16, 2004.

7. Ameren Services Company

[Docket No. ER04-1152-000]

Take notice that on August 26, 2004, Ameren Services Company (Ameren), on behalf of Union Electric Company d/b/a AmerenUE and Central Illinois Public Service Company d/b/a AmerenCIPS, submitted notices of cancellation for service agreements under the Open Access Transmission System Tariff (OATT) of the Ameren Operating Companies. Ameren states that on May 1, 2004, it transferred functional control of the Ameren Operating Companies' transmission system to the Midwest Independent Transmission System Operator, Inc. (Midwest ISO) and the Midwest ISO now provides transmission service under the Midwest ISO OATT, using the transmission facilities of Ameren and others.

Ameren states that it has served a copy of the complete filing on the Missouri Public Service Commission and the Illinois Commerce Commission. Ameren further states that it has served a copy of the transmittal letter and Attachment A (listing all service agreements to be cancelled) on all affected customers and will provide a complete copy of the filing to any such customer upon request. Finally, Ameren states that it has arranged for the electronic posting of the filing on the Midwest ISO's website at www.midwestiso.org under the heading “Filings to FERC.”

Comment Date: 5 p.m. eastern standard time on September 16, 2004.

8. CAM Energy Trading LLC

[Docket No. ER04-1153-000]

Take notice that on August 26, 2004, CAM Energy Trading LLC tendered for filing an application for waivers and blanket approvals under various regulations of the Commission and for an order accepting CAM Energy Trading LLC's FERC Electric Rate Schedule No. 1. CAM Energy Trading LLC states that it is seeking authority to make sales of electrical capacity, energy, ancillary services, and firm transmission rights, congestion credits, fixed transmission rights, and auction revenue rights (collectively, FTRs), as well as reassignments of transmission capacity, to wholesale customers at market-based rates. CAM Energy Trading LLC requests waiver of the 60-day prior notice requirement to permit the Rate Schedule to be effective August 21, 2004, and requests expeditious Commission approval of this Application.

Comment Date: 5 p.m. eastern standard time on September 16, 2004.

9. Southern California Edison Company

[Docket No. ER04-1154-000]

Take notice that on August 26, 2004, Southern California Edison Company (SCE) submitted for filing a Letter Agreement (Agreement) between SCE and the Blythe Energy, LLC (Blythe Energy), Service Agreement No. 29 under FERC Electric Tariff, Second Revised Volume No. 6. SCE states that the purpose of the agreement is for SCE to install equipment to sense overload conditions on the Blythe-Eagle Mountain 161kV transmission line to facilitate the curtailment of power from Blythe Energy's 520MW generating project.

SCE states that copies of the filing were served upon the Public Utilities Commission of the State of California and Blythe Energy.

Comment Date: 5 p.m. eastern standard time on September 16, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2128 Filed 9-8-04; 8:45 am]

BILLING CODE 6717-01-P